DEPARTMENT OF ENERGY

Nuclear Energy Advisory Committee

AGENCY: Department of Energy, Office of Nuclear Energy.

ACTION: Notice of open meeting and request for comment on the Nuclear Energy Advisory Committee (NEAC) International Subcommittee Report.

SUMMARY: This notice announces a meeting of the Nuclear Energy Advisory Committee and request for comments. The Federal Advisory Committee Act requires that public notice of these meetings be announced in the Federal Register.

DATES: Tuesday June 20, 2017; 9:00 a.m.-4:30 p.m.

ADDRESSES: Renaissance Washington DC Hotel, 999 Ninth St. NW., Washington, DC 20001.

Request for Comment on the NEAC International Subcommittee Report. The draft report is posted on NEAC's Web site: https://energy.gov/ne/services/nuclear-energy-advisory-committee and comments on the report can be sent via email to: NEAC@nuclear.energy.gov. All comments are due by June 2, 2017.

FOR FURTHER INFORMATION CONTACT: Bob Rova, Designated Federal Officer, U.S. Department of Energy, 19901 Germantown Rd. Germantown, MD 20874; telephone: (301) 903-9096; email: robert.rova@nuclear.energy.gov.

SUPPLEMENTARY INFORMATION: Background: The Nuclear Energy Advisory Committee (NEAC), formerly the Nuclear Energy Research Advisory Committee (NERAC), was established in 1998 by the U.S. Department of Energy (DOE) to provide advice on complex scientific, technical, and policy issues that arise in the planning, managing, and implementation of DOE's civilian nuclear energy research programs. The committee is composed of 17 individuals of diverse backgrounds selected for their technical expertise and experience, established records of distinguished professional service, and their knowledge of issues that pertain to nuclear energy.

Purpose of the Meeting: To inform the committee of recent developments and current status of research programs and projects pursued by the Department of Energy's Office of Nuclear Energy and receive advice and comments in return from the committee.

Tentative Agenda: The meeting is expected to include presentations that provide the committee updates on activities for the Office of Nuclear Energy. In addition, there will be presentations by Nuclear Energy Advisory Committee subcommittees and a discussion/vote on the committee's acceptance of the International Subcommittee report. The agenda may change to accommodate committee business. For updates, one is directed to the NEAC Web site: http://energy.gov/ne/services/nuclear-energy-advisory-committee.

Public Participation: Individuals and representatives of organizations who would like to offer comments and suggestions may do so on the day of the meeting, Tuesday, June 20, 2017. Approximately thirty minutes will be reserved for public comments. Time allotted per speaker will depend on the number who wish to speak, but is not expected to exceed 5 minutes. Anyone who is not able to make the meeting or has had insufficient time to address the committee is invited to send a written statement to Bob Rova, U.S. Department of Energy 1000 Independence Avenue SW., Washington, DC 20585, or email: robert.rova@nuclear.energy.gov.

Minutes: The minutes of the meeting will be available by contacting Mr. Rova at the address above or on the Department of Energy, Office of Nuclear Energy's Web site at: http://energy.gov/ne/services/nuclear-energy-advisory-committee.

Issued in Washington, DC, on May 19, 2017.
LaTanya R. Butler,
Deputy Committee Management Officer.

[FR Doc. 2017-10877 Filed 5-25-17; 8:45 am]

BILLING CODE 6450-01-P